FEDERAL COMMUNICATIONS COMMISSION

Sunshine Act Meeting; Open Commission Meeting; Wednesday, April 8, 2009

April 1, 2009.

The Federal Communications Commission will hold an Open Meeting on the subjects listed below on Wednesday, April 8, 2009, which is scheduled to commence at 10 a.m. in Room TW-C305, at 445 12th Street, SW., Washington, DC. With respect only to item #4 listed below, the Commission is waiving the sunshine period prohibition contained in section 1.1203 of the Commission's rules, 47 CFR 1.1203, until 5:30 pm, Friday, April 3, 2009. Thus, presentations with respect to item #4 will be permitted until that time. Also, with respect to item #4, the Commission is waiving the Sunshine period prohibition contained in section 1.1203 of the Commission's rules, 47 CFR 1.1203, to the extent necessary to permit meetings and written filings pursuant to the March 24, 2009, Public Notice on the Recovery Act establishing GN Docket No. 09-40.¹ Thus, presentations with respect to GN Docket No. 09-40, which may touch on topics relevant to item #4, will be permitted throughout the Sunshine period.

¹ Public Notice, Comment Procedures Established Regarding the Commission's Consultative Role in the Broadband Provisions of the Recovery Act, GN 09-40, DA 09-668 (rel. Mar. 24, 2009).

Item No. | Bureau | Subject
1 | Media | Title: Annual Assessment of the Status of Competition in the Market for the Delivery of Video Programming (MB Docket No. 07-269).
|  | Summary: The Commission will consider a Supplemental Notice of Inquiry soliciting information for the next annual report to Congress on the status of competition in the market for the delivery of video programming.
2 | Media | Title: Promoting Diversification of Ownership In the Broadcasting Services (MB Docket No. 07-294); 2006 Quadrennial Regulatory Review—Review of the Commission's Broadcast Ownership Rules and Other Rules Adopted Pursuant to Section 202 of the Telecommunications Act of 1996 (MB Docket No. 06-121); 2002 Biennial Regulatory Review—Review of the Commission's Broadcast Ownership Rules and Other Rules Adopted Pursuant to Section 202 of the Telecommunications Act of 1996 (MB Docket No. 02-277; Cross-Ownership of Broadcast Stations and Newspapers (MM Docket No. 01-235); Rules and Policies Concerning Multiple Ownership of Radio Broadcast Stations in Local Markets (MM Docket No. 01-317); Definition of Radio Markets (MM Docket No. 00-244); Ways to Further Section 257 Mandate and To Build on Earlier Studies (MB Docket No. 04-228).
|  | Summary: The Commission will consider a Report and Order and Fourth Further Notice of Proposed Rule Making concerning improving data collection on minority and female broadcast ownership.
3 | Media | Title: Policies to Promote Rural Radio Service and to Streamline Allotment and Assignment Policies.
|  | Summary: The Commission will consider a Notice of Proposed Rulemaking concerning the policies and procedures for allocation and assignment of broadcast frequencies in the commercial AM and FM and non-commercial FM services.
4 | Various Bureaus | Title: A National Broadband Plan for Our Future.
|  | Summary: The Commission will consider a Notice of Inquiry seeking comment to inform the Commission's development of a national broadband plan for our country pursuant to section 6001(k) of the American Recovery and Reinvestment Act of 2009.
5 | Public Safety & Homeland Security | Title: Amendment of Part 90 of the Commission's Rules (WP Docket No. 07-100).
|  | Summary: The Commission will consider a Report and Order and Further Notice of Proposed Rulemaking concerning amendments to Part 90 of the Commission's rules.

The meeting site is fully accessible to people using wheelchairs or other mobility aids. Sign language interpreters, open captioning, and assistive listening devices will be provided on site. Other reasonable accommodations for people with disabilities are available upon request. Include a description of the accommodation you will need. Also include a way we can contact you if we need more information. Last minute requests will be accepted, but may be impossible to fill. Send an e-mail to: fcc504@fcc.gov or call the Consumer & Governmental Affairs Bureau at 202-418-0530 (voice), 202-418-0432 (tty).

Additional information concerning this meeting may be obtained from Audrey Spivack or David Fiske, Office of Media Relations, (202) 418-0500; TTY 1-888-835-5322. Audio/Video coverage of the meeting will be broadcast live with open captioning over the Internet from the FCC's Audio/Video Events Web page at http://www.fcc.gov/realaudio.

For a fee this meeting can be viewed live over George Mason University's Capitol Connection. The Capitol Connection also will carry the meeting live via the Internet. To purchase these services call (703) 993-3100 or go to http://www.capitolconnection.gmu.edu.

Copies of materials adopted at this meeting can be purchased from the FCC's duplicating contractor, Best Copy and Printing, Inc. (202) 488-5300; Fax (202) 488-5563; TTY (202) 488-5562. These copies are available in paper format and alternative media, including large print/type; digital disk; and audio and video tape. Best Copy and Printing, Inc. may be reached by e-mail at FCC@BCPIWEB.com.

Federal Communications Commission.
Marlene H. Dortch,
Secretary.

[FR Doc. E9-7842 Filed 4-2-09; 4:15 pm]

BILLING CODE 6712-01-P